DEPARTMENT OF STATE

[Public Notice: 9441]

30-Day Notice of Proposed Information Collection: Application for Consular Report of Birth Abroad of a Citizen of the United States of America

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to March 11, 2016.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Derek Rivers, Bureau of Consular Affairs, Overseas Citizens Services (CA/OCS/PMO), U.S. Department of State, SA-17, 10th Floor, Washington, DC 20036, who may be reached at RiversDA@state.gov.

SUPPLEMENTARY INFORMATION:

• Title of Information Collection: Application for Consular Report of Birth Abroad of a Citizen of the United States of America.

• OMB Control Number: 1405-0011.

• Type of Request: Revision of a Currently Approved Collection.

• Originating Office: Bureau of Consular Affairs, Overseas Citizens Services (CA/OCS).

• Form Number: DS-2029.

• Respondents: Parents or legal guardians of children born overseas abroad who acquire U.S. citizenship at birth.

• Estimated Number of Respondents: 71,275.

• Estimated Number of Responses: 71,275.

• Average Time per Response: 20 minutes.

• Total Estimated Burden Time: 23,758 hours.

• Frequency: On Occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

The DS-2029, Application for Consular Report of Birth Abroad of a Citizen of the United States of America, is used by citizens of the United States to report the birth of their children born abroad. The information collected on this form will be used to determine whether the child born abroad to a U.S. citizen parent or parents acquired U.S. citizenship at birth. 22 CFR 50.5-50.7 are important legal authorities that permit the Department to use this form.

Methodology:

An application for a Consular Report of Birth is normally made in the consular district in which the birth occurred. The parent respondents will complete the form and present it to a U.S. Embassy or Consulate, where a consular officer will examine the documentation and enter the information provided into the Department of State American Citizen Services (ACS) electronic database.

Dated: January 21, 2016.
Michelle Bernier-Toth,
Managing Director, Bureau of Consular Affairs, Department of State.

[FR Doc. 2016-02719 Filed 2-9-16; 8:45 am]

BILLING CODE 4710-06-P